DEPARTMENT OF COMMERCE

National Oceanic and Atmospheric Administration

RIN 0648-XA369

Marine Mammals; File No. 14326 and 14329

AGENCY: National Marine Fisheries Service (NMFS), National Oceanic and Atmospheric Administration (NOAA), Commerce.

ACTION: Notice; receipt of applications for permit amendments.

SUMMARY: Notice is hereby given that the following permit holders have applied for amendments to Scientific Research Permits for taking marine mammals: NMFS National Marine Mammal Laboratory, Seattle, WA (File No. 14326) and North Pacific Universities Marine Mammal Research Consortium (NPUMMRC), University of British Columbia, Vancouver, B.C., Canada (File No. 14329).

DATES: Written, telefaxed, or e-mail comments must be received on or before May 18, 2011.

ADDRESSES: The application and related documents are available for review by selecting “Records Open for Public Comment” from the Features box on the Applications and Permits for Protected Species home page, https://apps.nmfs.noaa.gov, and then selecting File No. 14326 (NMML) or 14329 (NPUMMRC) from the list of available applications.

These documents are also available upon written request or by appointment in the following offices: See SUPPLEMENTARY INFORMATION.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Tammy Adams or Amy Sloan, (301) 713-2289.

SUPPLEMENTARY INFORMATION: The subject amendment to Permit No. 14326 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226). The subject amendment to Permit No. 14329 is being requested under the authority of the MMPA, the regulations governing the taking and importing of marine mammals (50 CFR part 216), and the Fur Seal Act of 1966, as amended (16 U.S.C. 1151 et seq.).

File No. 14326. Permit No. 14326, issued on August 17, 2009 (74 FR 44822), authorizes the permit holder to measure population status, vital rates, foraging ecology, habitat requirements, and effects of natural and anthropogenic factors for Steller sea lions (Eumetopias jubatus) in the North Pacific Ocean, including rookeries and haulouts in CA, OR, WA, and AK. Annually in the western Distinct Population Segment (DPS) sea lions may be exposed to aerial surveys, rookery-based activities, and other incidental activities. Steller sea lions that are captured will have blood, skin, and swab samples collected; be hot-branded, have blubber and lesions biopsied, vibrissa removed; and stomach intubation. Instruments will be attached to some animals and others will receive a non-permanent mark if not hot-branded. Non-target species that may be harassed incidental to Steller sea lion research include northern fur seals (Callorhinus ursinus) in AK, California sea lions (Zalophus californianus) and northern elephant seals (Mirounga angustrirostris) in WA, OR, and CA, and harbor seals (Phoca vitulina) in all States. The permit also authorizes unintentional mortality of Steller sea lions from the western DPS and the eastern DPS. The permit was amended on October 26, 2010 (75 FR 67347), to allow takes of up to 20 adult female Steller sea lions annually by capture using additional drug combinations in the remotely delivered darts. The permit, as amended, is valid through August 31, 2014.

The permit holder is requesting the permit be amended to include authorization for the following in AK: (1) Double the number of non-pup sea lions surveyed (from 10,000 to 20,000 per year) to accommodate one winter aerial survey of the Aleutian Islands per year; (2) shift some resight effort from the non-breeding season (August-May) to the breeding season (June-July) with increased potential disturbance for June-July (increase from 300 to 800 pups and increase from 3,000 to 8,000 non-pups per year) and for August-May (decrease from 20,000 to 15,000 non-pups per year); (3) visit additional sites to supplement aerial surveys if logistics prevent aircraft access to sites with increased potential disturbance (from 120 to 400 pups; and from 600 to 1,000 non-pups per each permit year (previously 2011 and 2013 only)); (4) permanently mark (hot-brand) an additional 300 pups per year at rookeries in the Aleutian Islands (west of 170° W) in 2011 and 2013; and (5) for a subset of pups handled for permanent marking, add collection of blubber biopsies for fatty acid and toxicology analyses; collection of fecal loops for determination of parasites, disease, and hormone concentrations; collection of milk from stomach lavage; puling a vibrissae; and external ultrasound.

The permit holder is also requesting the permit be amended to include authorization for the following in CA, OR, WA: (1) Increase the number of aerial surveys flown per year from 4 to 12; (2) increase the number of vessel surveys that may occur at any one site per year (depending on funding, staffing, vessel availability, weather) from 12 to 24; and (3) increase the number of ground surveys that may occur at any one site per year (depending on funding, staffing, vessel availability, weather) from 5 to 24.

File No. 14329. Permit No. 14329, issued on August 17, 2009 (74 FR 44822), authorizes the permit holder to test hypotheses that might explain the decline of northern fur seals in AK and offer solutions for recovery. The research includes studies on foraging ecology, demographics, behavior, and changes in body size. Research activities involve: Disturbance associated with capture, observational studies, and scat collection; and capture, restraint, tissue sampling, and marking. The permit also authorizes research-related mortality of northern fur seals.

The permit holder is requesting the permit be amended to include authorization to conduct the following on lactating female fur seals already authorized for capture: (1) Glue a small tri-axial accelerometer to the fur on top of each female's head to detect prey-catching events at sea; (2) use gas anaesthesia (isoflurane); and (3) inject doubly labelled water, with serial blood samples and holding for up to 3 hours between blood draws. The permit holder also requests to capture and recapture pups (up to 35 per year) of the above mentioned lactating females following suckling to take morphometric measurement and assess energy transfer. The pups would be physically restrained and marked with flipper tags, hair dye, hair bleach, fluorescent paint, or a glued-on head marker.

In compliance with the National Environmental Policy Act of 1969 (42 U.S.C. 4321 et seq.), an initial determination has been made that the activities proposed are consistent with the Preferred Alternative in the Final Programmatic Environmental Impact Statement for Steller Sea Lion and Northern Fur Seal Research (NMFS 2007), and that issuance of the permit amendments would not have a significant adverse impact on the human environment.

Concurrent with the publication of this notice in the Federal Register, NMFS is forwarding copies of these applications to the Marine Mammal Commission and its Committee of Scientific Advisors.

Documents may be reviewed in the following locations:

File Nos. 14326 and 14329: Permits, Conservation and Education Division, Office of Protected Resources, NMFS, 1315 East-West Highway, Room 13705, Silver Spring, MD 20910; phone (301) 713-2289; fax (301) 713-0376.

File Nos. 14326 and 14329: Alaska Region, NMFS, P.O. Box 21668, Juneau, AK 99802-1668; phone (907) 586-7221; fax (907) 586-7249.

File No. 14326 only: Southwest Region, NMFS, 501 West Ocean Blvd., Suite 4200, Long Beach, CA 90802-4213; phone (562) 980-4001; fax (562) 980-4018.

File No. 14326 only: Northwest Region, NMFS, 7600 Sand Point Way, NE., BIN C15700, Bldg. 1, Seattle, WA 98115-0700; phone (206) 526-6150; fax (206) 526-6426.

Dated: April 12, 2011.
P. Michael Payne,
Chief, Permits, Conservation and Education Division, Office of Protected Resources, National Marine Fisheries Service.

[FR Doc. 2011-9329 Filed 4-15-11; 8:45 am]

BILLING CODE 3510-22-P